DEPARTMENT OF ENERGY

Federal Energy Regulatory Commission

[Docket No. CP01-69-001]

Petal Gas Storage, L.L.C., Notice of Amendment

June 27, 2001.

Take notice that on June 19, 2001, Petal Gas Storage, L.L.C. (Petal), 1001 Louisiana Street, Houston, Texas 77002, filed in Docket No. CP01-69-001 an amendment to its initial application filed in Docket No. CP01-69-000, requesting authority to revise the rate Petal will charge the Southern Company Services, Inc. (Southern Company) for firm transportation service on the pipeline and the recourse rate proposed in the original application all as more fully set forth in the application which is on file with the Commission and open to public inspection. The filing may be viewed at http://www.rimsweb1.ferc.fed.us/rims.q?rp2~intro. (call 202-208-2222 for assistance).

On January 23, 2001, Docket No. CP00-69-000, Petal filed to construct and operate approximately 59.0 miles of bi-directional 36-inch diameter pipeline, compression and appurtenant facilities that would commence at the terminus of Petal's storage header facility approximately 5.5 miles east of Hattiesburg, Mississippi and terminate adjacent to an existing Southern Natural Gas Company Compressor Station approximately two miles southwest of Enterprise, Mississippi. As noted in the application, the purpose of the project is to enable Petal to connect its existing storage complex with several interstate pipelines.

In the amended application, Petal states that it has revised the earlier December 22, 2000 Discount Agreement with Southern Company such that Southern Company shall pay the lesser of: (i) A monthly reservation rate of $1.20 per MMBtu or (ii) Petal's maximum FTS reservation rate.

Petal also states that it has revised its recourse rate to account for a longer depreciation period. Petal initially requested a 20-year depreciation period which corresponded with the term of the agreement with Southern Company. Petal now proposes a 40-year depreciation period (2.5% per year) reflecting the life of the proposed facilities. The longer depreciation period yields a monthly reservation recourse rate of $2.2862 per MMBtu.

Any questions regarding this application should be directed to Mr. David E. Maranville, Senior Counsel, Petal Gas Storage, L.L.C., 1001 Louisiana Street, Houston, Texas 77002-2511 or call (713) 420-3525.

There are two ways to become involved in the Commission's review of this project. First, any person wishing to obtain legal status by becoming a party to the proceedings for this project should, on or before July 18, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests and interventions may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process, a final Commission order approving or denying a certificate will be issued.

Linwood A. Watson, Jr.,
Acting Secretary.

[FR Doc. 01-16638 Filed 7-2-01; 8:45 am]

BILLING CODE 6717-01-M